DEPARTMENT OF ENERGY

Federal Energy Regulatory Commission

[Project No. 15344-000]

Kram Hydro 4, LLC; Notice of Preliminary Permit Application Accepted for Filing and Soliciting Comments, Motions To Intervene, and Competing Applications

On February 15, 2024, Kram Hydro 4, LLC filed an application for a preliminary permit, pursuant to section 4(f) of the Federal Power Act (FPA), proposing to study the feasibility of a hydropower project proposed to be located at the U.S. Army Corps of Engineers' (Corps) Saylorville Locks and Dam near the City of Des Moines, Polk County, Iowa. The sole purpose of a preliminary permit, if issued, is to grant the permit holder priority to file a license application during the permit term. A preliminary permit does not authorize the permit holder to perform any land-disturbing activities or otherwise enter upon lands or waters owned by others without the owners' express permission.

The proposed Saylorville Hydroelectric Project would consist of the following: (1) a proposed 90-foot-long, 30-foot-wide intake channel near the west bank of the existing Corps' dam; (2) a proposed 2,100-foot-long and 20-foot-diameter steel penstock extending from the intake to a proposed powerhouse; (3) a proposed 70-foot-long, 120-foot-wide reinforced concrete powerhouse, located downstream of the existing Corps' dam, containing two Kaplan pit turbine-generators with a total capacity of 10.0 megawatts; (4) an existing tailrace channel used to convey flows back to the Des Moines River downstream of the Corps dam's discharge channel; (5) a proposed 13.8 kilovolt-ampere substation located adjacent to the proposed powerhouse; and (6) a proposed 13.8 kilovolt, 7,000-foot-long 3-phase overhead transmission line connecting the substation to the grid. The proposed project would have an estimated annual generation of 52,000 megawatt-hours.

Applicant Contact: Pamela Niditch, Kram Hydro 4 LLC, 12333 Sowden Rd., Ste. B, PMB 50808, Houston, Texas 77080-2059; phone: (570) 560-0205.

FERC Contact: Shivani Khetani; phone: (212) 273-5917, or by email at shivani.khetani@ferc.gov.

Deadline for filing comments, motions to intervene, competing applications (without notices of intent), or notices of intent to file competing applications: 60 days from the issuance of this notice.¹ Competing applications and notices of intent must meet the requirements of 18 CFR 4.36.

¹ The Commission's Rules of Practice and Procedure provide that if a filing deadline falls on a Saturday, Sunday, holiday, or other day when the Commission is closed for business, the filing deadline does not end until the close of business on the next business day. 18 CFR 385.2007(a)(2). Because the 60-day filing deadline falls on a Sunday (i.e., July 14, 2024), the filing deadline is extended until the close of business on Monday, July 15, 2024.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15334-000.

More information about this project, including a copy of the application, can be viewed or printed on the “eLibrary” link of the Commission's website at https://elibrary.ferc.gov/eLibrary/search. Enter the docket number (P-15334) in the docket number field to access the document. For assistance, contact FERC Online Support.

Dated: May 15, 2024.
Debbie-Anne A. Reese,
Acting Secretary.

[FR Doc. 2024-11148 Filed 5-20-24; 8:45 am]

BILLING CODE 6717-01-P